DEPARTMENT OF AGRICULTURE

Animal and Plant Health Inspection Service

[Docket No. 02-098-2]

Giant Salvinia; Availability of an Environmental Assessment and Finding of No Significant Impact

AGENCY: Animal and Plant Health Inspection Service, USDA.

ACTION: Notice.

SUMMARY: We are advising the public that an environmental assessment and finding of no significant impact have been prepared by the Animal and Plant Health Inspection Service relative to a proposed field release of the nonindigenous salvinia weevil for the biological control of the aquatic weed giant salvinia. The environmental assessment documents our review and analysis of environmental impacts associated with widespread release of the salvinia weevil. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Dr. Robert V. Flanders, Branch Chief, Pest Permit Evaluation, PPQ, APHIS, 4700 River Road Unit 133, Riverdale, MD 20737-1228; (301) 734-5930.

SUPPLEMENTARY INFORMATION:

Background

Giant salvinia (Salvinia molesta) is a free-floating aquatic fern, native to South America, with a tremendous growth rate and the potential to significantly affect water-reliant agricultural industries and recreation and the ecology of freshwater habitats throughout much of the United States.

Giant salvinia reproduces vegetatively through fragmenting and from dormant buds breaking away. The colonizing or immature stage of giant salvinia is characterized by small leaves that lie flat upon the water. As plant growth accelerates, the leaves become larger, crowding occurs, and the plants are pushed upright. Mats may grow to a meter thick and can cover large areas.

The Animal and Plant Health Inspection Service (APHIS) listed giant salvinia as a Federal noxious weed in 1983. Under APHIS” regulations, no person may move giant salvinia into or through the United States, or interstate, unless he or she obtains a permit for the movement from APHIS.

Because giant salvinia is a free-floating plant, it disperses by passive means (water currents and wind) and by “hitchhiking.” Animals may carry the plants over short distances, but humans can spread it widely on fishing gear and boating equipment. Intercontinental dispersal and dispersal within the United States have probably occurred when giant salvinia was sold in the nursery trade, either intentionally as a plant for aquaria or for ponds, or unintentionally when it “hitchhiked” with other aquatic plants collected for academic study or for use in aquaria or ponds. Although native to southeastern Brazil, giant salvinia is now found in North America, South America, Africa, Asia, Australia, New Guinea, and Oceania.

In the past several years, giant salvinia has been detected in the United States, mostly in association with the nursery trade in aquatic plants. Generally, detections have been in small, confined sites and are currently contained or have been eradicated. Such detections have occurred in Alabama, Arizona, Florida, Hawaii, Indiana, Louisiana, Maryland, Missouri, North Carolina, South Carolina, Texas, and Virginia. Most recently, giant salvinia was found in the Toledo Bend Reservoir and the surrounding areas in Louisiana and eastern Texas. As a result of that infestation, APHIS prepared an environmental assessment (EA) and issued permits for the environmental release of the nonindigenous salvinia weevil (Cyrtobagous salviniae) into the limited area of the Toledo Bend Reservoir. The salvinia weevil is native to Brazil, Bolivia, and Paraguay. Salvinia weevil larvae tunnel within the rhizomes of giant salvinia, causing them to disintegrate. The larvae also tunnel in the leaf buds, and adults eat leaves and leaf buds, suppressing growth and vegetative propagation of this sterile weed. This insect has successfully controlled giant salvinia in 12 countries over 3 continents.

Recently, APHIS received an application for a permit to release the salvinia weevil in areas of the continental United States beyond the area considered in the EA mentioned above. The applicant proposes to release the salvinia weevil to reduce the severity and extent of giant salvinia infestation in the United States. In response to the applicant's request, we published a notice in the Federal Register (67 FR 66381-66382, Docket No. 02-098-1) on October 31, 2002, in which we announced the availability, for public review and comment, of an EA titled “Field Release of the Salvinia Weevil, Cyrtobagous salviniae Calder and Sands (Curculionidae: Coleoptera) for Control of Giant Salvinia, Salvinia molesta Mitchell (Hydropteridales: Salviniaceae)” that examined the potential effects of additional releases of salvinia weevil into other areas of the continental United States.

We solicited comments on that EA for 30 days ending on December 2, 2002. We received one comment by that date, which requested that APHIS clarify the meaning of the term “Oceania” as used in our October 2002 notice. As mentioned above, giant salvinia is currently found in a number of regions in the world, including Oceania. The term “Oceania” is commonly used to refer to the islands of the central and south Pacific, including Melanesia, the Federated States of Micronesia, and Polynesia.

Following the close of the comment period, our State cooperators in California advised us that the EA made available in our October 2002 notice failed to include the results of the host specificity tests that were conducted to examine the potential risks to wild rice (Zizania aquatica) and Sanford's arrowhead (Sagittaria sanfordii) that may result from the release of salvinia weevil into additional areas of the United States. In this document, we are notifying the public that we have updated the EA to include the host test results for those species.

In addition, we are also advising the public of APHIS' record of decision and finding of no significant impact (FONSI) regarding the proposed field release of the nonindigenous salvinia weevil into additional areas of the continental United States for the biological control of the aquatic weed giant salvinia. The decision, which is based on the analysis found in the EA, reflects our determination that release of the organism will not have a significant impact on the quality of the human environment.

The EA and FONSI may be viewed on the Internet at http://www.aphis.usda.gov/ppq by following the link for “Documents/Forms Retrieval System” then clicking on the triangle beside “6-Permits-Environmental Assessments,” and selecting document number 0001. You may request paper copies of the EA and FONSI by calling or writing to the person listed under FOR FURTHER INFORMATION CONTACT. Please refer to the title of the environmental assessment when requesting copies. The EA and FONSI are also available for review in our reading room (information on the location and hours of the reading room is listed under the heading ADDRESSES at the beginning of this notice).

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 25th day of February 2003.
Peter Fernandez,
Acting Administrator, Animal and Plant Health Inspection Service.

[FR Doc. 03-4742 Filed 2-27-03; 8:45 am]

BILLING CODE 3410-34-P